DEPARTMENT OF AGRICULTURE

Forest Service

Information Collection; Financial Information Security Request Form

AGENCY: Forest Service, USDA.

ACTION: Notice; Request for Comment.

SUMMARY: In accordance with the Paperwork Reduction Act of 1995, the Forest Service is seeking comments from all interested individuals and organizations on the extension with revision of a currently approved information collection, Financial Information Security Request Form.

DATES: Comments must be received in writing on or before February 7, 2014 to be assured of consideration. Comments received after that date will be considered to the extent practicable.

ADDRESSES: Comments concerning this notice should be addressed to Financial Policy, Mail Stop 1149, USDA, Forest Service, 1400 Independence Ave. SW., Washington, DC 20250-1149. Comments also may be submitted via email to: omasahudu@fs.fed.us.

The public may inspect comments received at USDA Forest Service, Rosslyn Plaza, Building C, 1601 N. Kent Street, RPC-7, Arlington, VA during normal business hours. Visitors are encouraged to call ahead to (703) 605-4803 to facilitate entry to the building.

FOR FURTHER INFORMATION CONTACT: Osman Masahudu, (703)-605-4803. Individuals who use telecommunications for the deaf (TDD) may call the Federal Relay Service (FRS) at (800)-877-8339, between 8 a.m. and 8 p.m., Eastern Standard Time, Monday through Friday.

SUPPLEMENTARY INFORMATION: Title: Financial Information Security Request Form.

OMB Number: 0596-0204.

Expiration Date of Approval: 02/28/2014.

Type of Request: Extension without change of a currently approved Information Collection.

Abstract: The majority of the Forest Service's financial records are in databases stored at the National Finance Center (NFC). The Forest Service uses employees and contractors to maintain these financial records. The employees and contractors must have access to the NFC database to perform their duties.

The Forest Service uses an electronic form FS-6500-214, Financial Information Security Request Form, to apply to NFC for database access for certain employees or contractors. This form is used to add, modify, and/or delete authorized users of the different system modules.

The information collected includes: Name, work email, work telephone number, and job title. The contractor checks the box for a non-federal employee and provides the expiration date of the contract. The contractor then selects the databases and actions needed. Based on the database(s) selected, the contractor provides additional information regarding the financial systems, work location, access scope, etc. Once the form is submitted to the client security officer, a one-page agreement automatically prints, which the contractor and client security officer sign. The agreement is a certification statement that acknowledges the contractor's recognition of the sensitive nature of the information and the agreement to use the information only for authorized purposes. The information collected is shared with those managing or overseeing the financial systems used by the Forest Service; this includes auditors.

Estimate of Burden per Response: 10 minutes.

Type of Respondents: Federal and contracted employees.

Estimated Annual Number of Respondents: 9,549.

Estimated Annual Number of Responses per Respondent: 3.

Estimated Total Annual Burden on Respondents: 4,774 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 2, 2013.
Thelma J. Strong,
Chief Financial Officer.

[FR Doc. 2013-29230 Filed 12-6-13; 8:45 am]

BILLING CODE 3410-11-P